DEPARTMENT OF COMMERCE

National Oceanic and Atmospheric Administration

[RTID 0648-XA635]

New England Fishery Management Council; Public Meeting

AGENCY: National Marine Fisheries Service (NMFS), National Oceanic and Atmospheric Administration (NOAA), Commerce.

ACTION: Notice of public meeting via webinar.

SUMMARY: The New England Fishery Management Council (Council) is scheduling a public meeting of its Groundfish Committee to consider actions affecting New England fisheries in the exclusive economic zone (EEZ). Recommendations from this group will be brought to the full Council for formal consideration and action, if appropriate.

DATES: This webinar will be held on Monday, November 30, 2020 at 12:45 p.m. Webinar registration URL information: https://attendee.gotowebinar.com/register/6828171028913385741.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will discuss draft alternatives and draft environmental impacts analysis from the Groundfish Plan Development Team for 2021 US/CA total allowable catches (TACs) for U.S./Canada Eastern Georges Bank (GB) cod, Eastern GB haddock, and GB yellowtail flounder; 2021-2023 specifications for half of the groundfish stocks; and white hake rebuilding; and receive an update on a preliminary analysis of a universal sector exemption for redfish, pollock, and haddock. The Committee will consider work of the Groundfish Plan Development Team and recommendations from the Groundfish Advisory Panel and make recommendations to the Council for final action on specifications and a white hake rebuilding plan, as appropriate. They will receive a brief update on the party/charter limited entry “strawman” project and discuss other business as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: November 9, 2020.
Diane M. DeJames-Daly,
Acting Deputy Director, Office of Sustainable Fisheries, National Marine Fisheries Service.

[FR Doc. 2020-25127 Filed 11-12-20; 8:45 am]

BILLING CODE 3510-22-P